DEPARTMENT OF ENERGY

Federal Energy Regulatory Commission

[Docket Nos. EL00-95-000 and EL00-98-000]

San Diego Gas & Electric Company, Complainant, v. Sellers of Energy and Ancillary Services Into Markets Operated by the California Independent System Operator and the California Power Exchange, Respondents; Investigation of Practices of the California Independent System Operator and the California Power Exchange; Notice of Technical Conference

April 24, 2002.

The Federal Energy Regulatory Commission Staff is convening a technical conference to facilitate continued discussions between the California Independent System Operator Corporation (CAISO), market participants, state agencies and other interested participants on the development of a revised market design for the CAISO. Staff will issue an agenda the week of May 6, 2002. The conference will held in San Francisco, California, at the Renaissance Parc 55 Hotel, 55 Cyril Magnin Street, San Francisco, CA, on May 9 and 10, 2002, beginning at 9 a.m.

For additional information concerning the conference, interested persons may contact Robert Pease at (202) 208-0131 or by electronic mail at “robert.pease@ferc.gov.” No telephone communication bridge will be provided at this technical conference.

Linwood A. Watson, Jr.,
Deputy Secretary.

[FR Doc. 02-10657 Filed 4-30-02; 8:45 am]

BILLING CODE 6717-01-P